DEPARTMENT OF HEALTH AND HUMAN SERVICES

National Institutes of Health

National Center for Research Resources; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Initial Review Group; Comparative Medicine Review Committee.

Date: June 2-3, 2004.

Open: June 2, 2004, 8 a.m. to 8:30 a.m.

Agenda: To discuss program planning and other issues.

Place: Double Tree Rockville, 1750 Rockville Pike, Rockville, MD 20852.

Closed: June 2, 2004, 8:30 a.m. to adjournment.

Agenda: To review and evaluate grant applications.

Place: Double Tree Rockville, 1750 Rockville Pike, Rockville, MD 20852.

Contact Person: Guo Zhang, MD, PhD, Scientific Review Administrator, Office of Review, National Center for Research Resources, National Institutes of Health, One Democracy Plaza, 6701 Democracy Blvd., Room WS-1064, 10th Floor, Bethesda, MD 20814-9692, (301) 435-0812, zhanggu@mail.nih.gov.

Name of Committee: Scientific and Technical Review Board on Biomedical and Behavioral Research Facilities.

Date: June 8-11, 2004.

Open: June 8, 2004, 8 a.m. to 9 p.m.

Agenda: To discuss planning and other issues.

Place: Gaithersburg Marriott Washingtonian Center, 9751 Washingtonian Boulevard, Gaithersburg, MD 20878.

Closed: June 8, 2004, 9 a.m. to adjournment.

Agenda: To review and evaluate grant applications.

Place: Gaithersburg Marriott Washingtonian Center, 9751 Washingtonian Boulevard, Gaithersburg, MD 20878.

Contact Person: Sheryl K. Brining, PhD, Director, Office of Review, National Center for Research Resources, National Institutes of Health, 6701 Democracy Blvd., Rm. 1074, MSC 4874, Bethesda, MD 20892-4874, (301) 435-0809, sb44k@nih.gov.

Name of Committee: National Center for Research Resources Initial Review Group; Clinical Research Review Committee.

Date: June 9-10, 2004.

Open: June 9, 2004, 8 a.m. to 8:30 a.m.

Agenda: To discuss program planning and other issues.

Place: Holiday Inn Select Bethesda, 8120 Wisconsin Ave, Bethesda, MD 20814.

Closed: June 9, 2004, 8:30 a.m. to adjournment.

Agenda: To review and evaluate grant applications.

Place: Holiday Inn Select Bethesda, 8120 Wisconsin Ave., Bethesda, MD 20814.

Contact Person: Mohan Viswanathan, PhD, Deputy Director, Office of Review, NCRR, National Institutes of Health, 6701 Democracy Blvd., Room 1084, MSC 4874, 1 Democracy Plaza, Bethesda, MD 20892-4874, 301-435-0829, mv10f@nih.gov.

Name of Committee: National Center for Research Resources Initial Review Group; Research Centers In Minority Institutions Review Committee.

Date: June 23-24, 2004.

Open: June 23, 2004, 8 a.m. to 9 a.m.

Agenda: To discuss program planning and other issues.

Place: Doubletree Rockville Hotel, 1750 Rockville Pike, Rockville, MD 20892.

Closed: June 23, 2004, 9 a.m. to addjournment.

Agenda: To review and evaluate grant applications.

Place: Doubletree Rockville Hotel, 1750 Rockville Pike, Rockville, MD 20892.

Contact Person: Eric H. Brown, PhD, Scientific Review Administrator, Office of Review, National Center for Research Resources, National Institutes of Health, 6701 Democracy Boulevard, Room 1068, Bethesda, MD 20892-4874, 301-435-0815, browne@ncrr.nih.gov.

(Catalogue of Federal Domestic Assistance Program Nos. 93.306, Comparative Medicine; 93.333, Clinical Research; 93.371, Biomedical Technology; 93.389, Research Infrastructure, 93.306, 93.333, National Institutes of Health, HHS)

Dated: April 1, 2004.
LaVerne Y. Stringfield,
Director, Office of Federal Advisory Committee Policy.

[FR Doc. 04-7986 Filed 4-7-04; 8:45 am]

BILLING CODE 4140-01-M